DEPARTMENT OF THE TREASURY

Office of Foreign Assets Control

31 CFR Part 560

Iranian Transactions Regulations

AGENCY: Office of Foreign Assets Control, Treasury.

ACTION: Final rule.

SUMMARY: The Department of the Treasury's Office of Foreign Assets Control is amending the Iranian Transactions Regulations to redefine the term entity owned or controlled by the Government of Iran to substantially conform to the definition in the amended Iranian Financial Sanctions Regulations.

DATES: Effective: March 20, 2012.

FOR FURTHER INFORMATION CONTACT: Assistant Director for Sanctions Compliance & Evaluation, tel.: 202/622-2490, Assistant Director for Licensing, tel.: 202/622-2480, Assistant Director for Policy, tel.: 202/622-4855, Office of Foreign Assets Control, or Chief Counsel (Foreign Assets Control), tel.: 202/622-2410, Office of the General Counsel, Department of the Treasury (not toll free numbers).

SUPPLEMENTARY INFORMATION:

Electronic and Facsimile Availability

This document and additional information concerning OFAC are available from OFAC's Web site (www.treas.gov/ofac). Certain general information pertaining to OFAC's sanctions programs also is available via facsimile through a 24-hour fax-on-demand service, tel.: 202/622-0077.

Background

By a separate rulemaking, the Department of the Treasury's Office of Foreign Assets Control (“OFAC”) has amended the Iranian Financial Sanctions Regulations, 31 CFR part 561 (the “IFSR”), and reissued them in their entirety, to implement section 1245(d) of the National Defense Authorization Act for Fiscal Year 2012. In the amended IFSR, OFAC defined the term entity owned or controlled by the Government of Iran in a way that differs slightly from the definition of the term in the Iranian Transactions Regulations, 31 CFR part 560 (the “ITR”). To ensure that the term entity owned or controlled by the Government of Iran is defined consistently in these Iran sanctions programs, OFAC also is amending the ITR to more closely conform the definition in section 560.313 of the ITR to the one in section 561.322 of the IFSR. OFAC intends to issue more thorough amendments to the ITR to implement Executive Order 13599 of February 5, 2012 (“Blocking Property of the Government of Iran and Iranian Financial Institutions”)(“E.O. 13599”), at a later date. See 77 FR 7660 (Feb. 13, 2012), for a Notice containing additional information on E.O. 13599 and OFAC general and specific licenses set forth in or issued pursuant to the ITR.

Public Participation

Because the ITR involve a foreign affairs function, the provisions of Executive Order 12866 and the Administrative Procedure Act (5 U.S.C. 553) requiring notice of proposed rulemaking, opportunity for public participation, and delay in effective date are inapplicable. Because no notice of proposed rulemaking is required for this rule, the Regulatory Flexibility Act (5 U.S.C. 601-612) does not apply.

Paperwork Reduction Act

The collections of information related to the ITR are contained in 31 CFR part 501 (the “Reporting, Procedures and Penalties Regulations”). Pursuant to the Paperwork Reduction Act of 1995 (44 U.S.C. 3507), those collections of information have been approved by the Office of Management and Budget under control number 1505-0164. An agency may not conduct or sponsor, and a person is not required to respond to, a collection of information unless the collection of information displays a valid control number.

List of Subjects in 31 CFR Part 560

Administrative practice and procedure, Banks, Banking, Brokers, Foreign Trade, Investments, Loans, Securities, Iran.

For the reasons set forth in the preamble, the Department of the Treasury's Office of Foreign Assets Control amends 31 CFR part 560 as follows:

PART 560—IRANIAN TRANSACTIONS REGULATIONS

1. The authority citation to part 560 continues to read as follows:

Authority: 3 U.S.C. 301; 18 U.S.C. 2339B, 2332d; 22 U.S.C. 2349aa-9; 22 U.S.C. 7201-7211; 31 U.S.C. 321(b); 50 U.S.C. 1601-1651, 1701-1706; Pub. L. 101-410, 104 Stat. 890 (28 U.S.C. 2461 note); Pub. L. 110-96, 121 Stat. 1011 (50 U.S.C. 1705 note); Pub. L. 111-195, 124 Stat. 1312 (22 U.S.C. 8501-8551); E.O. 12613, 52 FR 41940, 3 CFR, 1987 Comp., p. 256; E.O. 12957, 60 FR 14615, 3 CFR, 1995 Comp., p. 332; E.O. 12959, 60 FR 24757, 3 CFR, 1995 Comp., p. 356; E.O. 13059, 62 FR 44531, 3 CFR, 1997 Comp., p. 217.

Subpart C—General Definitions

2. Revise § 560.313 to read as follows:

§ 560.313 Entity owned or controlled by the Government of Iran.

The term entity owned or controlled by the Government of Iran includes any corporation, partnership, association, or other entity in which the Government of Iran owns a 50 percent or greater interest or a controlling interest, and any entity which is otherwise controlled by that government.

Dated: March 9, 2012.
Adam J. Szubin,
Director, Office of Foreign Assets Control.

[FR Doc. 2012-6606 Filed 3-19-12; 8:45 am]

BILLING CODE 4810-AL-P